DEPARTMENT OF COMMERCE

National Oceanic and Atmospheric Administration

Announcement of Intent To Initiate the Process To Consider Marine Reserves in the Channel Islands National Marine Sanctuary; Intent To Prepare a Draft Environmental Impact Statement

AGENCY: Marine Sanctuaries Division (MSD), National Ocean Service (NOS), National Oceanic and Atmospheric Administration (NOAA), Department of Commerce (DOC).

ACTION: Notice.

SUMMARY: In accordance with the National Marine Sanctuaries Act, as amended, (NMSA) (16 U.S.C. 1431 et seq.), NOAA's National Marine Sanctuary Program (NMSP) is considering the establishment of a network of marine reserves within the Channel Islands National Marine Sanctuary (CINMS or Sanctuary) to maintain the natural biological communities, and to protect, and, where appropriate, restore and enhance natural habitats, populations, and ecological processes.

Marine reserves are one of a variety of resource management tools used to manage and protect marine resources. This action is being considered to complement the State of California's recent establishment of a network of marine reserves and protected areas within the State waters of the CINMS.

The NMSP will prepare an environmental impact statement which will examine a range of management and regulatory alternatives associated with consideration of marine reserves within the Sanctuary. The NMSP will conduct three public scoping meetings during the scoping period to gather information and other comments from individuals, organizations, and government agencies on the scope, types and significance of issues related to consideration of marine reserves in the Sanctuary. The dates and locations of the public scoping meetings are listed below.

DATES: Written comments must be received on or before July 23, 2003.

ADDRESSES: Written comments may be sent to the Channel Islands National Marine Sanctuary, attn. Sean Hastings, 113 Harbor Way, Suite 150, Santa Barbara, California 93109, by fax to (805) 568-1582, or by electronic mail to reservesprocess@noaa.gov. Comments will be available for public review at the same address.

FOR FURTHER INFORMATION CONTACT: Sean Hastings, (805) 966-7107, Ext. 472.

SUPPLEMENTARY INFORMATION: The Sanctuary was designated in September 1980, and consists of 1,252 square nautical miles of open ocean and near shore habitat approximately 25 miles off the coast of Santa Barbara, California, encompassing the waters surrounding San Miguel, Santa Rosa, Santa Cruz, Anacapa and Santa Barbara Islands from mean high tide to six nautical miles offshore. The NMSP's primary goal is the protection of the Sanctuary's natural and cultural resources contained within its boundaries. The NMSP uses a variety of non-regulatory and regulatory management measures to protect its resources. The Sanctuary is an area of national significance because of its exceptional natural beauty and marine and cultural resources.

In April 1999, the Sanctuary and the California Department of Fish and Game (CDFG) developed a joint Federal and State partnership to consider establishing marine reserves within the Sanctuary. Marine reserves are one of a variety of resource management tools used to manage and protect marine resources. The Channel Islands Marine Reserves Process was initiated in July of 1999, when the Sanctuary Advisory Council (SAC) created a multi-stakeholder Marine Reserves Working Group (MRWG) to seek agreement on the potential establishment of marine reserves within the Sanctuary. Included in the Channel Islands Marine Reserves Process were a SAC designated Science Advisory Panel and a NOAA led Socio-economic Team made up of blue ribbon scientists, academics and practitioners. Extensive scientific and socioeconomic data were collected in support of the reserves process. From July 1999 to May 2001, the MRWG met monthly to receive, weigh, and integrate advice from technical advisors and the public and to develop a recommendation for the SAC. In May 2001, the results of the Channel Islands Marine Reserves Process were forwarded to the SAC, including the MRWG consensus agreements, areas of disagreement, Science Panel advice and socio-economic analysis. A composite map with two reserve network options ranging from 12 to 29 percent of the Sanctuary was also forwarded. In June 2001, the SAC transmitted the full public record of the MRWG and the SAC to the CINMS and CDFG, and charged the agencies with crafting a final recommendation for the California Fish and Game Commission (FGC).

Sanctuary and CDFG staff continued to work with stakeholders in crafting a recommendation. On August 24, 2001 the Sanctuary and CDFG forwarded the results of the Channel Islands Reserves Process and recommended to the FGC a network of reserves and protected areas that would include approximately 25% of the Sanctuary.

The CDFG prepared environmental review documents pursuant to the California Environmental Quality Act (CEQA), which included an analysis of a range of alternative reserves networks, including identifying the Sanctuary and CDFG recommended option as the preferred alternative. On October 23, 2002, the FGC approved the preferred alternative and the establishment of a network of marine reserves and protected areas within State waters of the Sanctuary (approximately 10%). The FGC decision was made based on the culmination of the Channel Islands Marine Reserves Process and the CDFG and NOAA supported alternative for a network of marine reserves in the Sanctuary. The State's network went into effect on April 9, 2003.

The NMSP is initiating a process to consider the establishment of marine reserves within the Sanctuary to complement the State's network of reserves and protected areas. This review process will build upon the nearly four years of work to date on this matter, including the information and analyses contained in the State's CEQA environmental documents. The NMSP anticipates completion of the environmental review process and concomitant documents will require approximately eighteen to twenty-four months.

The NMSP will prepare an environmental impact statement, proposed regulations, and any proposed modifications to the Sanctuary's designation document, as warranted. The environmental impact statement will examine a range of management and regulatory alternatives associated with consideration of marine reserves within the Sanctuary. Any change to the Sanctuary's terms of designation will be pursuant to the requirements of the National Marine Sanctuaries Act, including necessary consultations with Federal and State agencies, the Pacific Fishery Management Council (PFMC), and others, and submission of the environmental impact statement, proposed regulations and any proposed changes to the designation document to Congress, the Governor of the State of California, and the public for comment. Further, the PFMC will be provided the opportunity to prepare draft Sanctuary fishing regulations for the Exclusive Economic Zone portion of the Sanctuary for any marine reserve proposal. Finally, any change to a term of designation would not apply to State waters if the Governor objects during the requisite review period.

For a complete history of the Channel Islands Marine Reserves Process and the State's Environmental Documents please see http://www.dfg.ca.gov/mrd/channel_islands/ and/or http://www.cinms.nos.noaa.gov/marineres/main.html. The same information can also be obtained by contacting John Ugoretz with California Department of Fish and Game, (805) 560-6758 and/or the contact information below.

The Sanctuary is also revising its 1983 Management Plan. A Final EIS and Management Plan are expected by the end of 2003. Please see http://www.cinms.nos.noaa.gov/marineres/manplan.html for more information on this independent process.

Public Scoping Meetings: Dates and Locations

The NMSP will conduct three public scoping meetings to gather information and other oral or written comments from individuals, organizations, and government agencies on the scope, types and significance of issues related to consideration of marine reserves in the Sanctuary. These meetings will be conducted in a format to maximize the opportunity for all attendees to provide public comment. The dates, times and location of the meetings are as follows:

(1) Thursday, June 5, 2003, 6:30-9 p.m., Orvene S. Carpenter Community Center, 550 Park Avenue Pt. Hueneme, CA.

(2) Thursday, June 12, 2003, 6:30-9 p.m., Santa Barbara Public Library, Faulkner Gallery, 40 E. Anapamu Street, Santa Barbara, CA.

(3) Friday, July 18, 2003, 1:30-4 p.m., Four Points by Sheraton, 1050 Schooner Drive, Ventura, CA. This meeting will be held with the Sanctuary Advisory Council.

Dated: May 16, 2003.
Jamison S. Hawkins,
Acting Assistant Administrator for Ocean Services and Coastal Zone Management.

[FR Doc. 03-12815 Filed 5-21-03; 8:45 am]

BILLING CODE 3510-08-M